ELECTION ASSISTANCE COMMISSION

Sunshine Act Notice

AGENCY: United States Election Assistance Commission.

ACTION: Notice of public teleconference meetings for the working subcommittees of the Technical Guidelines Development Committee.

Dates & Times: Tuesday, January 9, 2007, 10:30 a.m. EST; Thursday, January 11, 2007, 11 a.m. EST; Friday, January 12, 2006, 11 a.m. EST: Tuesday, January 23, 2007, 10:30 a.m. EST; Friday, January 26, 2007, 11 a.m. EST; Thursday, February 1, 2007, 11 a.m. EST; Tuesday, February 6, 2007, 10:30 a.m. EST; Friday, February 9, 2007, 11 a.m. EST; Thursday, February 15, 2007, 11 a.m. EST; Tuesday, February 20, 2007, 10:30 a.m. EST; Friday, February 23, 2007, 11 a.m. EST; Thursday, March 1, 2007, 11 a.m. EST; Friday, March 2, 2007, 11 a.m. EST; Tuesday, March 6, 2007, 10:30 a.m. EST; Friday, March 9, 2007, 11 a.m. EST; Thursday, March 15, 2007, 11 a.m. EDT; Friday, March 16, 2007, 11 a.m. EDT; Tuesday, March 20, 2007, 10:30 a.m. EDT.

Status: Audio recordings of working subcommittee teleconferences are available upon conclusion of each meeting at: http://vote.nist.gov/subcomm_mtgs.htm. Agendas for each teleconference will be posted one week in advance of each meeting at the above Web site.

Summary: The Technical Guidelines Development Committee (the “Development Committee”) was established to act in the public interest to assist the Executive Director of the U.S. Election Assistance Commission (EAC) in the development of voluntary voting system guidelines. The Committee held their first plenary meeting on July 9, 2004. At this meeting, the Development Committee agreed to a resolution forming three working groups: (1) Human Factors & Privacy; (2) Security & Transparency; and (3) Core Requirements & Testing to gather and analyze information on relevant issues. These working subcommittees propose resolutions to the TGDC on best practices, specifications and standards. Specifically, NIST staff and Committee members will meet via the above scheduled teleconferences to review and discuss progress on tasks defined in resolutions passed at Development Committee plenary meetings. The resolutions define technical work tasks for NIST that will assist the Committee in developing recommendations for voluntary voting system guidelines. The Committee met in its seventh plenary session on December 4-5, 2007. Documents and transcriptions of Committee proceedings are available at: http://vote.nist.gov/PublicHearingsandMeetings.html.

SUPPLEMENTARY INFORMATION: The Technical Guidelines Development Committee (the “Development Committee”) was established pursuant to 42 U.S.C. 15361, to act in the public interest to assist the Executive Director of the Election Assistance Commission in the development of the voluntary voting system guidelines. The information gathered and analyzed by the working subcommittees during their teleconference meetings will be reviewed at future Development Committee plenary meetings.

CONTACT INFORMATION: Allan Eustis 301-975-5099. If a member of the public would like to submit written comments concerning the Committee's affairs at any time before or after subcommittee teleconference meetings, written comments should be addressed to the contact person indicated above, or to voting@nist.gov.

Thomas R. Wilkey,
Executive Director, U.S. Election Assistance Commission.

[FR Doc. 06-9822 Filed 12-19-06; 10:43 am]

BILLING CODE 6820-KF-M